DEPARTMENT OF ENERGY

National Coal Council

AGENCY: Department of Energy, Office of Fossil Energy.

ACTION: Notice of open meetings.

SUMMARY: This notice announces a meeting of the National Coal Council (NCC). The Federal Advisory Committee Act (Pub. L. 92-463, 86 Stat. 770) requires that public notice of these meetings be announced in the Federal Register.

DATES: Wednesday, April 20, 2016, 9:00 a.m. to 12:30 p.m.

ADDRESSES: Hamilton Crowne Plaza Hotel, 1001 14th Street NW., Washington, DC.

FOR FURTHER INFORMATION CONTACT: Daniel Matuszak, U.S. Department of Energy, 4G-036/Forrestal Building, 1000 Independence Avenue SW., Washington, DC 20585-0001; Telephone: 202-287-6915.

SUPPLEMENTARY INFORMATION:

Purpose of the Council: The National Coal Council provides advice and recommendations to the Secretary of Energy, on general policy matters relating to coal and the coal industry.

Purpose of Meeting: The 2016 Spring Meeting of the National Coal Council.

Agenda:

1. Call to order and opening remarks by Mike Durham, Chair, National Coal Council

2. Remarks by The Honorable Dr. Ernest Moniz, Secretary, U.S. Department of Energy

3. Presentation by Robert Purgert, President, Energy Industries of Ohio and Jeffrey Phillips, Senior Program Manager, EPRI on Advanced Ultra Supercritical Technology

4. Presentation by Dr. Alfred Brown, CEO, ION Engineering on Redefining Carbon Capture

5. Presentation by John Schultes, CEO, New Steel International on Iron + Power + Steel

6. Presentation by Kipp Coddington, Director, Carbon Management Institute, University of Wyoming on Carbon Engineering: Converting Coal to High-Value Carbon Products and Chemicals

7. Council Business:

a. Finance Report by Finance Committee Chair Greg Workman

b. Coal Policy Committee Report by Coal Policy Committee Chair Deck Slone

c. Communications Committee Report by Communications Committee Chair Dawn Santoianni

d. NCC Business Report by NCC CEO Janet Gellici

8. Other Business

9. Adjourn

Attendees are requested to register in advance for the meeting at: https://www.etouches.com/157761.

Public Participation: The meeting is open to the public. If you would like to file a written statement with the Council, you may do so either before or after the meeting. If you would like to make oral statements regarding any item on the agenda, you should contact Daniel Matuszak, 202-287-6915 or daniel.matuszak@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC, on March 17, 2016.
LaTanya R. Butler,
Deputy Committee Management Officer.

[FR Doc. 2016-06579 Filed 3-22-16; 8:45 am]

BILLING CODE 6450-01-P